DEPARTMENT OF COMMERCE

Submission for OMB Review; Comment Request

The Department of Commerce will submit to the Office of Management and Budget (OMB) for clearance the following proposal for collection of information under the provisions of the Paperwork Reduction Act (44 U.S.C. Chapter 35).

Agency: National Institute of Standards and Technology (NIST).

Title: Workflow and Electronic Health Records in Small Medical Practices Study.

OMB Control Number: None.

Form Number(s): None.

Type of Request: Regular submission.

Burden Hours: 42.

Number of Respondents: 14.

Average Hours Per Response: 3.

Needs and Uses: Needs: The goal of this data collection is to study the information and workflow practices in small physicians' offices operating with and without electronic health record (EHR) across different functions in their offices. The study will attempt to characterize the workflow, as observed, in these offices to identify sources of time delay in the different tasks performed in the workflow. This will help to identify the barriers for implementing EHR systems.

Affected Public: Business or other for-profit organizations.

Frequency: One-time only.

Respondent's Obligation: Voluntary.

OMB Desk Officer: Jasmeet Seehra, (202) 395-3123.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to Jasmeet Seehra, OMB Desk Officer, FAX number (202) 395-5806 or via the Internet at Jasmeet_K._Seehra@omb.eop.gov.

Dated: June 26, 2008
Gwellnar Banks,
Management Analyst, Office of the Chief Information Officer.

[FR Doc. E8-14931 Filed 7-1-08; 8:45 am]

BILLING CODE 3510-13-P